DEPARTMENT OF COMMERCE

National Oceanic and Atmospheric Administration

50 CFR Part 660

[Docket No. 151117999-6370-01]

RIN 0648-BF56

Fisheries Off West Coast States; West Coast Salmon Fisheries; 2016 Management Measures and a Temporary Rule

AGENCY: National Marine Fisheries Service (NMFS), National Oceanic and Atmospheric Administration (NOAA), Commerce.

ACTION: Final rule; and a temporary rule for emergency action.

SUMMARY: Through this final rule, NMFS establishes fishery management measures for the 2016 ocean salmon fisheries off Washington, Oregon, and California and the 2017 salmon seasons opening earlier than May 1, 2017. The temporary rule for emergency action (emergency rule), under the Magnuson-Stevens Fishery Conservation and Management Act (MSA), implements the 2016 annual management measures for the West Coast ocean salmon fisheries for the area from the U.S./Canada border to Cape Falcon, OR from May 1, 2016, through October 28, 2016. The emergency rule is required because preseason forecast abundance of several stocks of coho from the Washington coast and Puget Sound is below the stock-specific spawning escapement goals (i.e., conservation objective) specified in the Pacific Coast Salmon Fishery Management Plan (FMP) and allocation of coho harvest in the recreational fishery will not be distributed consistent with the FMP in order to limit fishery impacts on these weak coho stocks. The fishery management measures for the area from Cape Falcon, OR, to the U.S./Mexico border are consistent with the FMP and are implemented through a final rule. Specific fishery management measures vary by fishery and by area. The measures establish fishing areas, seasons, quotas, legal gear, recreational fishing days and catch limits, possession and landing restrictions, and minimum lengths for salmon taken in the U.S. exclusive economic zone (EEZ) (3-200 NM) off Washington, Oregon, and California. The management measures are intended to prevent overfishing and to apportion the ocean harvest equitably among treaty Indian, non-treaty commercial, and recreational fisheries. The measures are also intended to allow a portion of the salmon runs to escape the ocean fisheries in order to provide for spawning escapement and inside fisheries (fisheries occurring in state internal waters).

DATES: Final rule covering fisheries south of Cape Falcon, Oregon, is effective from 0001 hours Pacific Daylight Time, May 1, 2016, until the effective date of the 2017 management measures, which will be published in the Federal Register. Temporary rule covering fisheries north of Cape Falcon, Oregon, is effective from 0001 hours Pacific Daylight Time, May 1, 2016, through 2400 hours Pacific Daylight Time, October 28, 2016, or the attainment of the specific quotas listed below in section two of this rule.

ADDRESSES: The documents cited in this document are available on the Pacific Fishery Management Council's (Council's) Web site (www.pcouncil.org).

FOR FURTHER INFORMATION CONTACT: Peggy Mundy at 206-526-4323.

SUPPLEMENTARY INFORMATION:

Background

The ocean salmon fisheries in the EEZ off Washington, Oregon, and California are managed under a “framework” FMP. Regulations at 50 CFR part 660, subpart H, provide the mechanism for making preseason and inseason adjustments to the management measures, within limits set by the FMP, by notification in the Federal Register.

The management measures for the 2016 and pre-May 2017 ocean salmon fisheries that are implemented in this final rule were recommended by the Council at its April 9 to 14, 2016, meeting.

Process Used To Establish 2016 Management Measures

The Council announced its annual preseason management process for the 2016 ocean salmon fisheries in the Federal Register on December 31, 2015 (80 FR 81806), and on the Council's Web site at (www.pcouncil.org). NMFS published an additional notice of opportunities to submit public comments on the 2016 ocean salmon fisheries in the Federal Register on February 1, 2016 (81 FR 5101). These notices announced the availability of Council documents, the dates and locations of Council meetings and public hearings comprising the Council's complete schedule of events for determining the annual proposed and final modifications to ocean salmon fishery management measures, and instructions on how to comment on the development of the 2016 ocean salmon fisheries. The agendas for the March and April Council meetings were published in the Federal Register (81 FR 8047, February 17, 2016, and 81 FR 15045, March 21, 2016, respectively) and posted on the Council's Web site prior to the actual meetings.

In accordance with the FMP, the Council's Salmon Technical Team (STT) and staff economist prepared four reports for the Council, its advisors, and the public. All four reports were made available on the Council's Web site upon their completion. The first of the reports, “Review of 2015 Ocean Salmon Fisheries,” was prepared in February when the scientific information necessary for crafting management measures for the 2016 and pre-May 2017 ocean salmon fisheries first became available. The first report summarizes biological and socio-economic data for the 2015 ocean salmon fisheries and assesses how well the Council's 2015 management objectives were met. The second report, “Preseason Report I Stock Abundance Analysis and Environmental Assessment Part 1 for 2016 Ocean Salmon Fishery Regulations” (PRE I), provides the 2016 salmon stock abundance projections and analyzes the impacts on the stocks and Council management goals if the 2015 regulations and regulatory procedures were applied to the projected 2016 stock abundances. The completion of PRE I is the initial step in developing and evaluating the full suite of preseason alternatives.

Following completion of the first two reports, the Council met in Sacramento, CA, from March 9 to 14, 2016, to develop 2016 management alternatives for proposal to the public. The Council proposed three alternatives for commercial and recreational fisheries management for analysis and public comment. These alternatives consisted of various combinations of management measures designed to protect weak stocks of coho and Chinook salmon, and to provide for ocean harvests of more abundant stocks. After the March Council meeting, the Council's STT and staff economist prepared a third report, “Preseason Report II Proposed Alternatives and Environmental Assessment Part 2 for 2016 Ocean Salmon Fishery Regulations” (PRE II), which analyzes the effects of the proposed 2016 management alternatives.

Public hearings, sponsored by the Council, to receive testimony on the proposed alternatives were held on March 28, 2016, in Westport, WA, and Coos Bay, OR; and on March 29, 2016, in Fort Bragg, CA. The States of Washington, Oregon, and California sponsored meetings in various forums that also collected public testimony, which was then presented to the Council by each state's Council representative. The Council also received public testimony at both the March and April meetings and received written comments at the Council office.

The Council met from April 9 to 14, 2016, in Vancouver, WA, to adopt its final 2016 salmon management recommendations. Following the April Council meeting, the Council's STT and staff economist prepared a fourth report, “Preseason Report III Analysis of Council-Adopted Management Measures for 2016 Ocean Salmon Fisheries” (PRE III), which analyzes the environmental and socio-economic effects of the Council's final recommendations. After the Council took final action on the annual ocean salmon specifications in April, it transmitted the recommended management measures to NMFS, published them in its newsletter, and also posted them on the Council Web site (www.pcouncil.org).

National Environmental Policy Act (NEPA)

The EA for this action comprises the Council's documents described above (PRE I, PRE II, and PRE III), providing analysis of environmental and socioeconomic effects under NEPA. The EA and its related Finding of No Significant Impact (FONSI) are posted on the NMFS West Coast Region Web site (www.westcoast.fisheries.noaa.gov).

Resource Status

Stocks of Concern

The need to meet Endangered Species Act (ESA) consultation requirements and obligations of the Pacific Salmon Treaty (PST) between the U.S. and Canada for several stocks, as well as conservation objectives detailed in the FMP, will shape salmon fisheries in 2016, and several stocks will constrain fishing in 2016.

Fisheries south of Cape Falcon, OR, are limited in 2016 primarily by the low abundance forecast of Klamath River fall Chinook salmon (KRFC) and concern for the status of ESA-listed Sacramento River winter Chinook salmon (SRWC). Fisheries north of Cape Falcon are limited primarily by the extremely low abundance forecasts for several stocks of coho salmon, primarily from the Washington coast and Puget Sound. At the start of the preseason planning process for the 2016 management season, NMFS provided a letter to the Council, dated March 7, 2016, summarizing limits to impacts on ESA-listed species for 2016, based on existing biological opinions and 2016 abundance information, as required by the Salmon FMP. The limitations imposed in order to protect these stocks are described below. The alternatives and the Council's recommended management measures for 2015 were designed to avoid exceeding these limitations.

Sacramento River winter Chinook salmon (SRWC): In 2010, NMFS consulted under ESA section 7 and provided guidance to the Council regarding the effects of Council area fisheries on SRWC, ESA-listed as endangered. NMFS completed a biological opinion that includes a reasonable and prudent alternative (RPA) to avoid jeopardizing the continued existence of this evolutionarily significant unit (ESU). The RPA included management-area-specific fishing season openings and closures, and minimum size limits for both commercial and recreational fisheries. It also directed NMFS to develop a second component to the RPA—an abundance-based management (ABM) framework. In 2012, NMFS implemented this ABM framework which supplements the above management restrictions with maximum allowable impact rates that apply when abundance is low, based on the three-year geometric mean spawning escapement of SRWC. Using the methodology specified in the ABM framework, the age-3 impact rate on SRWC in 2016 fisheries south of Point Arena recommended by NMFS would be limited to a maximum of 19.9 percent. However, as in 2015, the Council expressed concern that the methodology used to recommend that impact rate is retrospective in nature and may not be responsive to the affects of recent environmental events on salmon survival and productivity, including the perilously high mortality rates of out-migrating SRWC smolts in recent years due to warm water conditions caused by drought in California. The Council has formed a workgroup to develop new scientific methodology to incorporate information about future SRWC abundance into fishery management; however, that new methodology is not yet available. For 2016, the Council recommended precautionary management measures including time and area restrictions based on data presented by the California Department of Fish and Wildlife (CDFW) regarding SRWC encounters in the fishery resulting in an impact rate for SRWC of 12.8 percent. Conservation measures for SRWC will constrain 2016 salmon fisheries south of Cape Falcon.

California Coastal Chinook salmon (CCC): NMFS last consulted under ESA section 7 regarding the effects of Council area fisheries on CCC in 2005. Klamath River fall Chinook (KRFC) are used as a surrogate to set limits on ocean harvest impacts on CCC. The biological opinion requires that management measures result in a KRFC age-4 ocean harvest rate of no greater than 16 percent. Conservation measures for CCC will not constrain 2016 salmon fisheries south of Cape Falcon.

Klamath River fall Chinook salmon (KRFC): KRFC is not an ESA-listed stock; however, forecast abundance for this stock in 2016 is one-third of the 2015 forecast. To comply with the FMP's harvest control rule for this stock, fisheries south of Cape Falcon will be constrained in 2016 to meet the de minimis exploitation rate of 0.25 on KRFC.

Lower Columbia River Chinook salmon (LCR Chinook): In 2012, NMFS consulted under ESA section 7 and issued a biological opinion that applies to fisheries beginning in 2012, concluding that the proposed fisheries, if managed consistent with the terms of the biological opinion, are not likely to jeopardize the continued existence of LCR Chinook salmon. The LCR Chinook salmon ESU is comprised of a spring component, a “far-north” migrating bright component, and a component of north migrating tules. The bright and tule components both have fall run timing. There are twenty-one separate populations within the tule component of this ESU. Unlike the spring or bright populations of the ESU, LCR tule populations are caught in large numbers in Council fisheries, as well as fisheries to the north and in the Columbia River. Therefore, this component of the ESU is the one most likely to constrain Council fisheries in the area north of Cape Falcon, Oregon. Under the 2012 biological opinion, NMFS uses an ABM framework to set annual exploitation rates for LCR tule Chinook salmon below Bonneville Dam. Applying the ABM framework to the 2016 preseason abundance forecast, the LCR tule exploitation rate is limited to a maximum of 41 percent. In 2016, LCR Chinook will not constrain salmon fisheries.

Lower Columbia River natural coho (LCR coho): In 2015, NMFS conducted an ESA section 7 consultation and issued a biological opinion regarding the effects of Council fisheries and fisheries in the Columbia River on LCR coho. The opinion analyzed the use of a harvest matrix to manage impacts to LCR coho. Under the matrix the allowable harvest in a given year depends on indicators of marine survival and parental escapement to spawning. In 2016, the marine survival indicator is in the “medium” category, while parental escapement is in the “normal” category. Under these circumstances, ocean salmon fisheries under the Council's jurisdiction in 2016, and commercial and recreational salmon fisheries in the mainstem Columbia River below Bonneville Dam, including select area fisheries (e.g., Youngs Bay), must be managed subject to a total exploitation rate limit on LCR coho not to exceed 18 percent. In 2016, LCR coho will somewhat constrain salmon fisheries.

Thompson River coho: Interior Fraser (Thompson River) coho, a Canadian stock, continues to be depressed, remaining in the “low” status category under the PST; under these circumstances, the PST and Salmon FMP require a maximum 10.0 percent total U.S. exploitation rate on this stock. Meeting PST and Salmon FMP conservation requirements for Thompson River coho will not constrain 2016 salmon fisheries north of Cape Falcon.

Puget Sound Chinook salmon: Impacts on threatened Puget Sound Chinook from Council-managed fisheries are addressed through a 2004 biological opinion. Generally, these impacts are quite low and well within the range contemplated in the 2004 opinion. However, because Puget Sound Chinook are also impacted by fisheries in Puget Sound and associated freshwater fisheries (collectively referred to as “inside” fisheries), the Council and NMFS usually consider the impacts of Council-area and inside fisheries on Puget Sound Chinook together, and they base their analysis of the combined impacts on a package of Puget Sound fisheries to which the State of Washington and Indian tribes with treaty rights to fish in Puget Sound have agreed through a negotiation process that runs concurrent with the Council's salmon season planning process. In 2016, the state and tribes with treaty rights to fish for salmon in Puget Sound have been unable to agree to a package of Puget Sound fisheries. However, the State and tribes did agree to conservation objectives for each stock of salmon included in the Puget Sound Chinook ESU. These conservation objectives are very similar to those for past years; and NMFS has determined in biological opinions covering Puget Sound fisheries in recent years that fisheries with impacts that do not exceed those past conservation objectives are not likely to jeopardize the continued existence of the ESU. The state and tribes provided a commitment to the Council during its deliberation on the final ocean package that they would manage Puget Sound fisheries in combination with ocean fishery impacts to stay within these conservation objectives. Given this commitment, and the relatively minor impacts of Council-area fisheries on Puget Sound Chinook stocks consistent with the 2004 opinion, it is highly likely that the combined fishery impacts will be within NMFS' ESA guidance as described in NMFS' March 7, 2016, letter to the Council outlining the ESA requirements for 2016.

Queets River coho: Queets River coho are not ESA-listed. However, the 2016 abundance forecast for this stock is below the FMP conservation objective for escapement (projected abundance of 3,500, conservation objective is escapement of 5,800). Queets River coho, and in combination with other Washington coastal coho stocks, will severely constrain all salmon fisheries north of Cape Falcon, Oregon.

Grays Harbor natural coho: Grays Harbor coho are not ESA-listed. However, the 2016 abundance forecast for this stock is very close to the FMP conservation objective for escapement (projected abundance of 35,694, conservation objective is escapement of 35,400); therefore, it is likely that this stock will not meet the FMP conservation objective for escapement in 2016. Grays Harbor coho, in combination with other Washington coastal coho stocks, will severely constrain all salmon fisheries north of Cape Falcon, Oregon.

Hoh coho: Hoh coho are not ESA-listed. However, projected abundance of this stock is extremely close to the FMP conservation objective for escapement in 2016 (projected abundance of 2,100, conservation objective is escapement of 2,000). Hoh coho, in combination with other Washington coastal coho stocks, will severely constrain all salmon fisheries north of Cape Falcon, Oregon.

Quillayute fall coho: Quillayute fall coho are not ESA-listed. However, the 2016 abundance forecast for this stock is below the FMP conservation objective for escapement (projected abundance of 4,500, conservation objective is escapement of 6,300). Quillayute fall coho, in combination with other Washington coastal coho stocks, will severely constrain all salmon fisheries north of Cape Falcon, Oregon.

Puget Sound coho: Coho stocks from Puget Sound are impacted by fisheries in marine and inland waters including British Columbia, Washington coast, Salish Sea (including the Strait of Juan de Fuca and Puget Sound), and rivers that connect to Puget Sound. These fisheries are managed by multiple entities including the Pacific Salmon Commission, the Council, and the State of Washington and Treaty Tribes through the North of Falcon process. The Council considers the impacts of all fisheries on these stocks to avoid exceeding the exploitation rates allowed under the Salmon FMP. Abundance forecasts for four stocks of coho from Puget Sound in 2016 place these stocks in the Critical abundance-based status category, which results in an exploitation rate ceiling for southern U.S. fisheries of 10 percent under both the salmon FMP and the provisions of the PST. Therefore, the Council adopted management measures that would limit impacts from U.S. ocean and inside fisheries to 10 percent exploitation rate for the following Puget Sound coho stocks in 2016: Skagit, Stillaguamish, Snohomish, and Strait of Juan de Fuca. The state and tribes provided a commitment to the Council during its deliberation on the final ocean package that they would manage Puget Sound fisheries in combination with ocean fishery impacts to stay within the 10 percent exploitation rate in 2016. These stocks are not ESA-listed, and fisheries north of Cape Falcon, OR, will not be constrained to meet conservation objectives for Puget Sound coho stocks due to the low impact of Council-area fisheries on these stocks.

Annual Catch Limits and Status Determination Criteria

Annual Catch Limits (ACLs) are set for two Chinook salmon stocks, Sacramento River fall Chinook (SRFC) and KRFC, and one coho stock, Willapa Bay natural coho. The Chinook salmon stocks are indicator stocks for the Central Valley Fall Chinook complex and the Southern Oregon/Northern California Chinook complex, respectively. The Far North Migrating Coastal Chinook complex includes a group of Chinook salmon stocks that are caught primarily in fisheries north of Cape Falcon, Oregon, and other fisheries that occur north of the U.S./Canada border. No ACL is set for these stocks because they are managed according to the PST with Canada. Other Chinook salmon stocks caught in fisheries north of Cape Falcon are ESA-listed or hatchery produced, and are managed consistent with ESA consultations or hatchery goals. Willapa Bay natural coho is the only coho stock for which an ACL is set, as the other coho stocks in the FMP are either ESA-listed, hatchery produced, or managed under the PST.

ACLs for salmon stocks are escapement-based, which means they establish a number of adults that must escape the fisheries to return to the spawning grounds. ACLs are set based on the annual abundance projection and a fishing rate reduced to account for scientific uncertainty. The abundance forecasts for 2016 are described in more detail below in the “Management Measures for 2016 Fisheries” section of this final rule. For SRFC in 2016, the overfishing limit (OFL) is SOFL = 299,609 (projected abundance) multiplied by 1 − FMSY (1 − 0.78) or 65,914 returning spawners (FMSY is the fishing mortality rate that would result in maximum sustainable yield−MSY). SABC is 299,609 multiplied by 1−FABC (1−0.70) (FMSY reduced for scientific uncertainty = 0.70) or 89,883. The SACL is set equal to SABC, i.e, 89,883 spawners. For KRFC in 2016, SOFL is 41,211 (abundance projection) multiplied by 1−FMSY (1−0.71), or 11,951 returning spawners. SABC is 41,211 multiplied by 1 − FABC (1−0.68) (FMSY reduced for scientific uncertainty = 0.68) or 13,188 returning spawners. SACL is set equal to SABC, i.e., 13,188 spawners. For Willapa Bay natural coho in 2016, the overfishing limit (OFL) is SOFL = 39,516 (projected abundance) multiplied by 1−FMSY (1−0.74) or 10,274 returning spawners. SABC is 39,516 multiplied by 1 − FABC (1−0.70) (FMSY reduced for scientific uncertainty = 0.70) or 11,854. SACL is set equal to SABC, i.e., 11,854 spawners.

As explained in more detail above under “Stocks of Concern,” fisheries north and south of Cape Falcon, are constrained by impact limits necessary to protect ESA-listed salmon stocks including SRWC and Puget Sound Chinook, as well as KRFC, Queets, Grays Harbor, Hoh, Quillayute fall, Skagit, Stillaguamish, Snohomish and Strait of Juan de Fuca coho which are not ESA-listed. For 2016, projected abundance of the three stocks with ACLs (SRFC, KRFC, and Willapa Bay natural coho), in combination with the constraints for ESA-listed and non-ESA-listed stocks, are expected to result in escapements greater than required to meet the ACLs for all three stocks with defined ACLs.

Emergency Rule

The Council's final recommendation for the ocean salmon fishing seasons that commence May 1, 2016, deviate from the FMP specifically with regard to not meeting FMP escapement goals for several stocks of coho and in setting the recreational fishery allocations north and south of Leadbetter Point, Oregon. As discussed above, two coastal coho stocks have abundance projections that do not meet FMP conservation objectives for escapement, even without fishing. Two additional coastal coho stocks have abundance forecasts that are extremely close to the FMP conservation objective for escapement. To respond to this circumstance, the Council has recommended fisheries that would prohibit coho retention north of Leadbetter Point, Washington (about 10 miles north of the Columbia River) and would allow only limited fisheries targeting Chinook in that area, well below what might be allowed if coho stocks were healthy. The following stocks will not meet their FMP conservation objectives for escapement, even without fishing impacts:

• Queets:

FMP conservation objective: 5,800 − 14,500 escapement (SMSY = 5,800)

Preseason abundance estimate: 3,500

• Quillayute fall:

FMP conservation objective: 6,300 − 15,800 escapement (SMSY = 6,300)

Preseason abundance estimate: 4,500

The preseason forecasts for these stocks are at unprecedented low levels. The Council's Salmon Technical Team (STT) expressed concern that unusually warm ocean temperatures are affecting ocean productivity, leading to adverse impacts to coho stocks. Coastal and Puget Sound Chinook stocks and Columbia River coho stocks do not appear to be affected to the same extent, and are projected to return in harvestable numbers.

The Council considered three alternative fishery management schemes for the fisheries north of Cape Falcon. One alternative would have allowed coho retention north of Leadbetter Point, one alternative would have allowed Chinook fishing only north of Leadbetter Point, with incidental impacts to coho, and one alternative would have closed fisheries north of Leadbetter Point completely. The Council's state and tribal representatives, and industry advisory committee, supported consideration of these three alternatives. The Council's final recommended management measures fall between the second and third alternatives in terms of impacts to coho. These management measures reflect agreement between the State of Washington and coastal treaty tribes on temporary escapement goals for combined ocean fisheries and fisheries landward of the EEZ; the projected impacts of the combined fisheries are managed such that the affected stocks meet these escapement goals. The Council's recommended management measures would allow very limited Chinook fishing north of Leadbetter Point—approximately 50 percent of the Chinook quota for 2015 despite projected Chinook abundance similar to 2015. Retention of coho would be prohibited, thus impacts to coho would be incidental to fishing for Chinook. The Council voted unanimously to adopt these measures, and members spoke at length about the need to conserve coho stocks while mitigating to the extent possible the otherwise severe impacts on coastal communities.

The proposed fisheries have minimal impacts on the affected coho stocks and are not expected to jeopardize the capacity of the fishery to produce maximum sustainable yield on a continuing basis. The FMP defines overfishing and overfished status for these stocks. None would be subject to overfishing under the proposed management measures, in fact the overfishing limits in the FMP are much higher than the expected impact rates (50-60 percent MFMTs as opposed to 1-10 percent projected fishery impacts). All but one of the stocks are expected to avoid “overfished” or “approaching overfished” status with the proposed fisheries. The FMP defines “overfished” status in terms of a three year geometric mean escapement level and whether it is above the minimum stock sized threshold (MSST). Queets, Hoh, and Grays Harbor coho are all expected to have three year geometric mean escapement levels above MSST, when the projected impacts of the Council's recommended fisheries and fisheries landward of the EEZ are taken into account. One stock, Quillayute fall coho, is likely to meet the definition of “overfished” in 2017, but this is the case whether or not there are any fishery impacts. The marginal decreases in the abundance of all four stocks expected from the proposed fisheries (e.g., for Quillayute fall, approximately 66 fish out of the forecasted abundance of 4,500 fish may be taken by the proposed fisheries) are not expected to affect the ability of the fisheries to produce MSY on a continuing basis.

The temporary rule for emergency action implements the 2016 annual management measures for the West Coast ocean salmon fisheries for the area from the U.S./Canada border to Cape Falcon, OR, for 180 days, from May 1, 2016, through October 28, 2016 (16 U.S.C. 1855(c)).

Public Comments

The Council invited written comments on developing 2016 salmon management measures in their notice announcing public meetings and hearings (80 FR 81806, December 31, 2015). At its March meeting, the Council adopted three alternatives for 2016 salmon management measures having a range of quotas, season structure, and impacts, from the least restrictive in Alternative I to the most restrictive in Alternative III. These alternatives are described in detail in PRE II. Subsequently, comments were taken at three public hearings held in March, staffed by representatives of the Council and NMFS. The Council received several written comments directly. The three public hearings were attended by a total of 119 people; 37 people provided oral comments. Comments came from individual fishers, fishing associations, fish buyers, and processors. Written and oral comments addressed the 2016 management alternatives described in PRE II, and generally expressed preferences for a specific alternative or for particular season structures. All comments were included in the Council's briefing book for their April 2016 meeting and were considered by the Council, which includes a representative from NMFS, in developing the recommended management measures transmitted to NMFS on April 22, 2016. In addition to comments collected at the public hearings and those submitted directly to the Council, several people provided oral comments at the April 2016 Council meeting; two further comments were received via email to the Council and to NMFS during and following the April 2016 Council meeting. NMFS also invited comments to be submitted directly to the Council or to NMFS, via the Federal Rulemaking Portal (www.regulations.gov) in a notice (81 FR 5101, February 1, 2016). Eight comments were submitted via www.regulations.gov; one of which did not address salmon management.

Comments on alternatives for fisheries north of Cape Falcon. For fisheries north of Cape Falcon, Alternative I quota levels were favored by commercial and recreational fishery commenters at the public hearing in Westport, WA. Comments on both commercial and recreational fisheries support consistent openings. The economic impacts and opportunities associated with salmon fisheries were stressed by several commenters. Alternative III, which would have closed all fisheries north of Cape Falcon received no support.

Comments on alternatives for fisheries south of Cape Falcon. Most comments that expressed support for a specific alternative supported Alternative I, for both commercial and recreational fisheries. A couple of groups presented new alternatives, each receiving a share of support from those attending the public hearings. The seven relevant comments submitted via the Federal Rulemaking Portal all opposed Alternative III for the recreational fishery in the Monterey area. Public testimony at the April Council meeting was largely opposed to additional conservation restrictions over what were implemented in 2015 to limit fishery impacts on SRWC.

Comments on incidental halibut retention in the commercial salmon fisheries. At its March meeting, the Council identified three alternatives for landing limits for incidentally caught halibut that are retained in the salmon troll fishery. Alternatives I and II each received a single testimony of support at the public hearings.

Comments on NEPA. The Council and NMFS received two emailed comments, one near the end of the April Council meeting and the other after the Council meeting had ended that suggested the action of adopting the 2016 ocean salmon management measures might require analysis in an environmental impact statement. NMFS took these comments into consideration in our NEPA analysis and when finalizing the EA and FONSI. In summary, NMFS disagrees with the commenter's assertions that the impacts of the proposed fisheries are “significant” and require an EIS, because these impacts are very low relative to stock abundance and are not expected to jeopardize the ability of the fisheries to produce maximum sustainable yield on a continuing basis. Further, future fisheries will be shaped to respond to new information about the impacts of environmental conditions and human activities on the stocks in the FMP.

The Council, including the NMFS representative, took all of these comments into consideration. The Council's final recommendation generally includes aspects of all three alternatives, while taking into account the best available scientific information and ensuring that fisheries are consistent with ESA consultation standards, ACLs, PST obligations, and tribal fishing rights. These management tools assist the Council in meeting impact limits on weak stocks. The Council adopted alternative III for incidental halibut retention, this alternative provides for more liberal landing limits for halibut than were adopted for 2015 salmon fisheries and April 2016 salmon fisheries (80 FR 25611, May 5, 2015).

Management Measures for 2016 Fisheries

The Council's recommended ocean harvest levels and management measures for the 2016 fisheries are designed to apportion the burden of protecting the weak stocks identified and discussed in PRE I equitably among ocean fisheries and to allow maximum harvest of natural and hatchery runs surplus to inside fishery and spawning needs. NMFS finds the Council's recommendations responsive to the goals of the FMP, the requirements of the resource, and the socioeconomic factors affecting resource users. The recommendations are consistent with the requirements of the MSA, U.S. obligations to Indian tribes with federally recognized fishing rights, and U.S. international obligations regarding Pacific salmon. The Council's recommended management measures also comply with NMFS ESA consultation standards and guidance, for those ESA-listed salmon species that may be affected by Council fisheries. Accordingly, NMFS, through this final rule and temporary rule, approves and implements the Council's recommendations.

North of Cape Falcon, 2016 management measures for non-Indian commercial troll and recreational fisheries have greatly reduced quotas for Chinook and coho salmon compared to 2015. This is due to the fact that Washington coast and Puget Sound coho are forecast to have extremely low abundance and conservation measures are being implemented in all salmon fishing sectors north of Cape Falcon to limit impacts on these stocks. North of Cape Falcon in 2016, commercial fisheries will have no retention of coho salmon and recreational fisheries will have no retention of coho salmon north of Leadbetter Point, WA. Chinook harvest north of Cape Falcon will be approximately one half of the 2015 level for both commercial and recreational fisheries. Chinook impacts in Alaskan and Canadian fisheries on salmon stocks originating north of Cape Falcon are expected to increase slightly for Chinook in 2016 compared with 2015; coho impacts are essentially the same. As noted previously, ESA-listed Puget Sound Chinook will not be constraining to this year's fisheries. Impacts to Thompson River coho from Canada and Puget Sound coho will also not be constraining, due to conservation measures in place to limit fishery impacts to Washington coast coho. The Council recommended a provision prohibiting retention of chum salmon in the ocean salmon fisheries north of Cape Alava, WA, during August and September to protect ESA-listed Hood Canal summer chum. The Council has recommended such a prohibition since 2002 (67 FR 30616, May 7, 2002). The projected abundance of Willapa Bay natural coho in 2016 is similar to the 2015 projection. Under the management measures in this final rule, and including anticipated in-river impacts, spawning escapement for Willapa Bay natural coho is projected at 37,400, well above the SACL for this stock.

Recreational fisheries south of Cape Falcon will be directed primarily at Chinook salmon, with opportunity for coho limited to the area between Cape Falcon and the Oregon/California border. Commercial fisheries south of Cape Falcon will be directed at Chinook and have no coho retention. The projected abundance of SRFC in 2016 is about half of the 2015 projection. Under the management measures in this final rule, and including anticipated in-river impacts, spawning escapement for SRFC is projected at 151,100, well above the SACL for this stock. Projected abundance for KRFC in 2016 is about one-third of 2015, and harvest will be constrained to a de minimis level of 25 percent by the harvest control rule. Under the management measures in this final rule, and including anticipated in-river fishery impacts, spawning escapement for KRFC is projected at 30,909, well above the SACL for this stock.

As discussed above in “Stocks of Concern,” NMFS' 2012 RPA for SRWC, together with projected abundance for 2016, limits Council-area fishery impacts to SRWC to 19.9 percent. In deciding on the recommended management measures, the Council additionally considered information on the impacts of ongoing drought on California salmon stocks, particularly SRWC, including the California Department of Fish and Wildlife's (CDFW) estimate of greater than 95 percent mortality of juvenile SRWC from brood years 2014 and 2015 prior to downstream emigration, information developed by CDFW on time and area vulnerability of SRWC to commercial and recreational fisheries, and public testimony on proposed season structure. In response to the information presented by CDFW on the time and area vulnerability of SRWC, the final management measures include specific limits on the fishing seasons south of Pigeon Point, CA, and result in an age-3 ocean impact rate of 12.8 percent in 2016, compared with 17.5 percent in 2015.

The treaty-Indian commercial troll fishery quotas for 2016 are 40,000 Chinook salmon and no coho in ocean management areas and Washington State Statistical Area 4B combined. These quotas are lower than the 60,000 Chinook and 42,500 coho quotas in 2015, for the same reasons discussed above for the non-tribal fishery. The treaty-Indian fishery commercial fisheries include a May and June fishery and a July and August fishery, with a quota of 20,000 Chinook in each fishery.

Management Measures for 2017 Fisheries

The timing of the March and April Council meetings makes it impracticable for the Council to recommend fishing seasons that begin before May 1 of the same year. Therefore, this action also establishes the 2017 fishing seasons that open earlier than May 1. The Council recommended, and NMFS concurs, that the commercial season off Oregon from Cape Falcon to the Oregon/California border, the commercial season off California from Horse Mountain to Point Arena, the recreational season off Oregon from Cape Falcon to Humbug Mountain, and the recreational season off California from Horse Mountain to the U.S./Mexico border will open in 2017 as indicated in the “Season Description” section of this document. At the March 2017 meeting, the Council may consider inseason recommendations to adjust the commercial and recreational seasons prior to May 1 in the areas off Oregon and California.

The following sections set out the management regime for the ocean salmon fishery. Open seasons and days are described in Sections 1, 2, and 3 of the 2016 management measures. Inseason closures in the commercial and recreational fisheries are announced on the NMFS hotline and through the U.S. Coast Guard (USCG) Notice to Mariners as described in Section 6. Other inseason adjustments to management measures are also announced on the hotline and through the Notice to Mariners. Inseason actions will also be published in the Federal Register as soon as practicable.

The following are the management measures recommended by the Council and approved and implemented here for 2016 and, as specified, for 2017.

Section 1. Commercial Management Measures for 2016 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies special requirements, definitions, restrictions, and exceptions.

A. Season Description

North of Cape Falcon, OR

—U.S./Canada Border to Cape Falcon

May 1-3, May 6-31, June 3-5, June 10-16, and June 24-30 or 14,000 Chinook, no more than 4,600 of which may be caught in the area between the U.S./Canada border and the Queets River and no more than 4,600 of which may be caught in the area between Leadbetter Pt. and Cape Falcon (C.8). May 1 through May 3 with a landing and possession limit of 40 Chinook per vessel for the open period. Then May 6 through May 31, five days per week, Friday through Tuesday with a landing and possession limit of 40 Chinook per vessel per open period. Then June 3-5, June 10-16, and June 24-30, with a landing and possession limit of 40 Chinook per vessel per open period (C.1, C.6). All salmon except coho (C.4, C.7). Chinook minimum size limit of 28 inches total length (B). Vessels in possession of salmon north of the Queets River may not cross the Queets River line without first notifying Washington Department of Fish and Wildlife (WDFW) at 360-249-1215 with area fished, total Chinook and halibut catch aboard, and destination. Vessels in possession of salmon south of the Queets River may not cross the Queets River line without first notifying WDFW at 360-249-1215 with area fished, total Chinook and halibut catch aboard, and destination. When it is projected that approximately 75 percent of the overall Chinook guideline has been landed, or approximately 75 percent of the Chinook subarea guideline has been landed in the area between the U.S./Canada border and the Queets River, or approximately 75 percent of the Chinook subarea guideline has been landed in the area between Leadbetter Point and Cape Falcon, inseason action will be considered to ensure the guideline is not exceeded. See compliance requirements (C.1) and gear restrictions and definitions (C.2, C.3). Cape Flattery, Mandatory Yelloweye Rockfish Conservation Area (YRCA), and Columbia Control Zones closed (C.5). Vessels must land and deliver their fish within 24 hours of any closure of this fishery. Under state law, vessels must report their catch on a state fish receiving ticket. Vessels fishing or in possession of salmon while fishing north of Leadbetter Point must land and deliver their fish within the area and north of Leadbetter Point. Vessels fishing or in possession of salmon while fishing south of Leadbetter Point must land and deliver their fish within the area and south of Leadbetter Point, except that Oregon permitted vessels may also land their fish in Garibaldi, Oregon. Oregon State regulations require all fishers landing salmon into Oregon from any fishery between Leadbetter Point, Washington and Cape Falcon, Oregon must notify Oregon Department of Fish and Wildlife (ODFW) within one hour of delivery or prior to transport away from the port of landing by either calling 541-867-0300 ext. 271 or sending notification via email to nfalcon.trollreport@state.or.us. Notification shall include vessel name and number, number of salmon by species, port of landing and location of delivery, and estimated time of delivery. Inseason actions may modify harvest guidelines in later fisheries to achieve or prevent exceeding the overall allowable troll harvest impacts (C.8).

July 8-14, July 22-28, August 1-7, and August 15-23 or 21,000 Chinook, no more than 8,300 of which may be caught in the area between the U.S./Canada border and the Queets River (C.8). Landing and possession limit of 50 Chinook per vessel per open period (C.1). Vessels in possession of salmon north of the Queets River may not cross the Queets River line (see Section 5. Geographical Landmarks) without first notifying WDFW at 360-249-1215 with area fished, total Chinook and halibut catch aboard, and destination. Vessels in possession of salmon south of the Queets River may not cross the Queets River line (see Section 5. Geographical Landmarks) without first notifying WDFW at 360-249-1215 with area fished, total Chinook and halibut catch aboard, and destination. When it is projected that approximately 75 percent of the overall Chinook guideline has been landed, or approximately 75 percent of the Chinook subarea guideline has been landed in the area between the U.S./Canada border to the Queets River, inseason action will be considered to ensure the guideline is not exceeded. All salmon except coho; no chum retention north of Cape Alava, Washington in August and September (C.4, C.7). Chinook minimum size limit of 28 inches total length (B, C.1). See compliance requirements (C.1) and gear restrictions and definitions (C.2, C.3). Mandatory Yelloweye Rockfish Conservation Area, Cape Flattery and Columbia Control Zones, and beginning August 8, Grays Harbor Control Zone closed (C.5, C.6). Vessels must land and deliver their fish within 24 hours of any closure of this fishery. Vessels fishing or in possession of salmon while fishing north of Leadbetter Point must land and deliver their fish within the area and north of Leadbetter Point. Vessels fishing or in possession of salmon while fishing south of Leadbetter Point must land and deliver their fish within the area and south of Leadbetter Point, except that Oregon permitted vessels may also land their fish in Garibaldi, Oregon. Under state law, vessels must report their catch on a state fish receiving ticket. Oregon State regulations require all fishers landing salmon into Oregon from any fishery between Leadbetter Point, Washington and Cape Falcon, Oregon must notify ODFW within one hour of delivery or prior to transport away from the port of landing by either calling 541-867-0300 ext. 271 or sending notification via email to nfalcon.trollreport@state.or.us. Notification shall include vessel name and number, number of salmon by species, port of landing and location of delivery, and estimated time of delivery. Inseason actions may modify harvest guidelines in later fisheries to achieve or prevent exceeding the overall allowable troll harvest impacts (C.8).

South of Cape Falcon, OR

—Cape Falcon to Humbug Mountain

April 8-30;

May 1-31;

June 5-10, 15-30;

July 8-31;

August 8-12, 18-24;

September 1-7, 15-30;

October 1-31 (C.9.a).

Seven days per week. All salmon except coho (C.4, C.6, C.7). Chinook minimum size limit of 28 inches total length (B, C.1). All vessels fishing in the area must land their fish in the State of Oregon. See gear restrictions and definitions (C.2, C.3) and Oregon State regulations for a description of special regulations at the mouth of Tillamook Bay. Beginning September 1, no more than 40 Chinook per vessel per landing week (Thursday through Wednesday). Beginning October 1, open shoreward of the 40 fathom regulatory line (C.5.f).

In 2017, the season will open March 15 for all salmon except coho. Chinook minimum size limit of 28 inches total length. Gear restrictions same as in 2016. This opening could be modified following Council review at its March 2017 meeting.

—Humbug Mountain to Oregon/California Border (Oregon Klamath Management Zone (KMZ))

April 8-30;

May 1-31;

June 5-10 and 15-30 or a 720 Chinook quota;

July 8 through the earlier of July 31 or a 200 Chinook quota (C.9.a).

Seven days per week. All salmon except coho (C.4, C.7). Chinook minimum size limit of 28 inches total length (B, C.1). Prior to June 1, all fish caught in this area must be landed and delivered in the state of Oregon. See compliance requirements (C.1, C.6) and gear restrictions and definitions (C.2, C.3).

June 5 through July 31 single daily landing and possession limit of 15 Chinook per vessel per day (C.8.f). Any remaining portion of the June Chinook quota may be transferred inseason on an impact neutral basis to the July quota period (C.8.b). All vessels fishing in this area must land and deliver all fish within this area or Port Orford within 24 hours of any closure of this fishery, and prior to fishing outside of this area (C.6). State regulations require fishers landing from any quota managed season in this area to notify ODFW within one hour of delivery or prior to transporting their catch to other locations by calling 541-867-0300 ext. 252 or sending notification via email to KMZOR.trollreport@state.or.us, notification shall include vessel name and number, number of salmon by species, location of delivery, and estimated time of delivery.

In 2017, the season will open March 15 for all salmon except coho, with a 28 inch Chinook minimum size limit. This opening could be modified following Council review at its March 2017 meeting.

—Oregon/California Border to Humboldt South Jetty (California KMZ)

September 9 through the earlier of September 27 or a 1,000 Chinook quota (C.9.b).

Five days per week, Friday through Tuesday. All salmon except coho (C.4, C.7). Chinook minimum size limit of 28 inches total length (B, C.1). Landing and possession limit of 20 Chinook per vessel per day (C.8.f). All fish caught in this area must be landed within the area and within 24 hours of any closure of the fishery and prior to fishing outside the area (C.10). See compliance requirements (C.1) and gear restrictions and definitions (C.2, C.3). Klamath Control Zone closed (C.5.e). See California State regulations for additional closures adjacent to the Smith and Klamath Rivers. When the fishery is closed between the Oregon/California border and Humbug Mountain and open to the south, vessels with fish on board caught in the open area off California may seek temporary mooring in Brookings, Oregon, prior to landing in California only if such vessels first notify the Chetco River Coast Guard Station via VHF channel 22A between the hours of 0500 and 2200 and provide the vessel name, number of fish on board, and estimated time of arrival (C.6).

—Humboldt South Jetty to Horse Mt.

Closed.

—Horse Mt. to Point Arena (Fort Bragg)

June 13-30;

August 3-27;

September 1-30 (C.9.b).

Seven days per week. All salmon except coho (C.4, C.7). Chinook minimum size limit of 27 inches total length (B, C.1). All fish must be landed in California. All salmon caught in California prior to September 1 must be landed and offloaded no later than 11:59 p.m., August 30 (C.6). When the California KMZ fishery is open, all fish caught in the area must be landed south of Horse Mountain (C.6). During September, all fish must be landed north of Point Arena (C.6). See compliance requirements (C.1) and gear restrictions and definitions (C.2, C.3).

In 2017, the season will open April 16-30 for all salmon except coho, with a 27-inch Chinook minimum size limit and the same gear restrictions as in 2016. All fish caught in the area must be landed in the area. This opening could be modified following Council review at its March 2017 meeting.

—Point Arena to Pigeon Point (San Francisco)

May 6-31;

June 13-30;

August 3-28;

September 1-30 (C.9.b).

Seven days per week. All salmon except coho (C.4, C.7). Chinook minimum size limit of 27 inches total length prior to September 1, 26 inches thereafter (B, C.1). All fish must be landed in California. All salmon caught in California prior to September 1 must be landed and offloaded no later than 11:59 p.m., August 30 (C.6). During September, all fish must be landed south of Point Arena (C.6). See compliance requirements (C.1) and gear restrictions and definitions (C.2, C.3).

—Point Reyes to Point San Pedro (Fall Area Target Zone)

October 3-7 and 10-14.

Five days per week, Monday through Friday. All salmon except coho (C.4, C.7). Chinook minimum size limit of 26 inches total length (B, C.1). All fish caught in this area must be landed between Point Arena and Pigeon Point (C.6). See compliance requirements (C.1) and gear restrictions and definitions (C.2, C.3).

—Pigeon Point to Point Sur (Monterey North)

May 1-31;

June 1-30 (C.9.b).

Seven days per week. All salmon except coho (C.4, C.7). Chinook minimum size limit of 27 inches total length (B, C.1). All fish must be landed in California. All salmon caught in California prior to September 1 must be landed and offloaded no later than 11:59 p.m., August 30 (C.6). See compliance requirements (C.1) and gear restrictions and definitions (C.2, C.3).

—Point Sur to U.S./Mexico Border (Monterey South)

May 1-31;

June 1-30 (C.9.b).

Seven days per week. All salmon except coho (C.4, C.7). Chinook minimum size limit of 27 inches total length (B, C.1). All fish must be landed in California. All salmon caught in California prior to September 1 must be landed and offloaded no later than 11:59 p.m., August 30 (C.6). See compliance requirements (C.1) and gear restrictions and definitions (C.2, C.3).

California State regulations require all salmon be made available to a CDFW representative for sampling immediately at port of landing. Any person in possession of a salmon with a missing adipose fin, upon request by an authorized agent or employee of the CDFW, shall immediately relinquish the head of the salmon to the state (California Fish and Game Code § 8226).

B. Minimum Size (Inches) (See C.1)

Area (when open) | Chinook: Total length | Chinook: Head-off | Coho: Total length | Coho: Head-off | Pink
North of Cape Falcon, OR | 28.0 | 21.5 |  |  | None.
Cape Falcon to OR/CA border | 28.0 | 21.5 |  |  | None.
OR/CA border to Humboldt South Jetty | 28.0 | 21.5 |  |  | None.
Horse Mountain to Point Arena | 27.0 | 20.5 |  |  | None.
Point Arena to Pigeon Point:
Prior to September 1 | 27.0 | 20.5 |  |  | None.
After September 1 | 26.0 | 19.5 |  |  | None.
Pigeon Point to U.S./Mexico Border | 27.0 | 20.5 |  |  | None.
Metric equivalents: 28.0 in = 71.1 cm, 27.0 in = 68.6 cm, 26.0 in = 66.0 cm, 21.5 in = 54.6 cm, 20.5 in = 52.1 cm, 19.5 in = 49.5 cm, 16.0 in = 40.6 cm, and 12.0 in = 30.5 cm.

C. Requirements, Definitions, Restrictions, or Exceptions

C.1. Compliance With Minimum Size or Other Special Restrictions

All salmon on board a vessel must meet the minimum size, landing/possession limit, or other special requirements for the area being fished and the area in which they are landed if the area is open or has been closed less than 48 hours for that species of salmon. Salmon may be landed in an area that has been closed for a species of salmon more than 48 hours only if they meet the minimum size, landing/possession limit, or other special requirements for the area in which they were caught. Salmon may not be filleted prior to landing.

Any person who is required to report a salmon landing by applicable state law must include on the state landing receipt for that landing both the number and weight of salmon landed by species. States may require fish landing/receiving tickets be kept on board the vessel for 90 days or more after landing to account for all previous salmon landings.

C.2. Gear Restrictions

a. Salmon may be taken only by hook and line using single point, single shank, barbless hooks.

b. Cape Falcon, Oregon, to the Oregon/California border: No more than 4 spreads are allowed per line.

c. Oregon/California border to U.S./Mexico border: No more than 6 lines are allowed per vessel, and barbless circle hooks are required when fishing with bait by any means other than trolling.

C.3. Gear Definitions

Trolling defined: Fishing from a boat or floating device that is making way by means of a source of power, other than drifting by means of the prevailing water current or weather conditions.

Troll fishing gear defined: One or more lines that drag hooks behind a moving fishing vessel. In that portion of the fishery management area off Oregon and Washington, the line or lines must be affixed to the vessel and must not be intentionally disengaged from the vessel at any time during the fishing operation.

Spread defined: A single leader connected to an individual lure and/or bait.

Circle hook defined: A hook with a generally circular shape and a point which turns inward, pointing directly to the shank at a 90° angle.

C.4. Vessel Operation in Closed Areas With Salmon on Board

a. Except as provided under C.4.b below, it is unlawful for a vessel to have troll or recreational gear in the water while in any area closed to fishing for a certain species of salmon, while possessing that species of salmon; however, fishing for species other than salmon is not prohibited if the area is open for such species, and no salmon are in possession.

b. When Genetic Stock Identification (GSI) samples will be collected in an area closed to commercial salmon fishing, the scientific research permit holder shall notify NOAA Office of Law Enforcement, USCG, CDFW, WDFW, and Oregon State Police at least 24 hours prior to sampling and provide the following information: The vessel name, date, location and time collection activities will be done. Any vessel collecting GSI samples in a closed area shall not possess any salmon other than those from which GSI samples are being collected. Salmon caught for collection of GSI samples must be immediately released in good condition after collection of samples.

C.5. Control Zone Definitions

a. Cape Flattery Control Zone—The area from Cape Flattery (48°23′00″ N. lat.) to the northern boundary of the U.S. EEZ; and the area from Cape Flattery south to Cape Alava (48°10′00″ N. lat.) and east of 125°05′00″ W. long.

b. Mandatory Yelloweye Rockfish Conservation Area—The area in Washington Marine Catch Area 3 from 48°00.00′ N. lat.; 125°14.00′ W. long. to 48°02.00′ N. lat.; 125°14.00′ W. long. to 48°02.00′ N. lat.; 125°16.50′ W. long. to 48°00.00′ N. lat.; 125°16.50′ W. long. and connecting back to 48°00.00′ N. lat.; 125°14.00′ W. long.

c. Grays Harbor Control Zone—The area defined by a line drawn from the Westport Lighthouse (46°53′18″ N. lat., 124°07′01″ W. long.) to Buoy #2 (46°52′42″ N. lat., 124°12′42″ W. long.) to Buoy #3 (46°55′00″ N. lat., 124°14′48″ W. long.) to the Grays Harbor north jetty (46°55′36″ N. lat., 124°10′51″ W. long.).

d. Columbia Control Zone—An area at the Columbia River mouth, bounded on the west by a line running northeast/southwest between the red lighted Buoy #4 (46°13′35″ N. lat., 124°06′50″ W. long.) and the green lighted Buoy #7 (46°15′09″ N. lat., 124°06′16″ W. long.); on the east, by the Buoy #10 line which bears north/south at 357° true from the south jetty at 46°14′00″ N. lat., 124°03′07″ W. long. to its intersection with the north jetty; on the north, by a line running northeast/southwest between the green lighted Buoy #7 to the tip of the north jetty (46°15′48″ N. lat., 124°05′20″ W. long.), and then along the north jetty to the point of intersection with the Buoy #10 line; and, on the south, by a line running northeast/southwest between the red lighted Buoy #4 and tip of the south jetty (46°14′03″ N. lat., 124°04′05″ W. long.), and then along the south jetty to the point of intersection with the Buoy #10 line.

e. Klamath Control Zone—The ocean area at the Klamath River mouth bounded on the north by 41°38′48″ N. lat. (approximately 6 nautical miles north of the Klamath River mouth); on the west by 124°23′00″ W. long. (approximately 12 nautical miles off shore); and on the south by 41°26′48″ N. lat. (approximately 6 nautical miles south of the Klamath River mouth).

f. Waypoints for the 40 fathom regulatory line from Cape Falcon to Humbug Mountain (50 CFR 660.71(k)).

(12) 45°46.00′ N. lat., 124°04.49′ W. long.;

(13) 45°44.34′ N. lat., 124°05.09′ W. long.;

(14) 45°40.64′ N. lat., 124°04.90′ W. long.;

(15) 45°33.00′ N. lat., 124°04.46′ W. long.;

(16) 45°32.27′ N. lat., 124°04.74′ W. long.;

(17) 45°29.26′ N. lat., 124°04.22′ W. long.;

(18) 45°20.25′ N. lat., 124°04.67′ W. long.;

(19) 45°19.99′ N. lat., 124°04.62′ W. long.;

(20) 45°17.50′ N. lat., 124°04.91′ W. long.;

(21) 45°11.29′ N. lat., 124°05.20′ W. long.;

(22) 45°05.80′ N. lat., 124°05.40′ W. long.;

(23) 45°05.08′ N. lat., 124°05.93′ W. long.;

(24) 45°03.83′ N. lat., 124°06.47′ W. long.;

(25) 45°01.70′ N. lat., 124°06.53′ W. long.;

(26) 44°58.75′ N. lat., 124°07.14′ W. long.;

(27) 44°51.28′ N. lat., 124°10.21′ W. long.;

(28) 44°49.49′ N. lat., 124°10.90′ W. long.;

(29) 44°44.96′ N. lat., 124°14.39′ W. long.;

(30) 44°43.44′ N. lat., 124°14.78′ W. long.;

(31) 44°42.26′ N. lat., 124°13.81′ W. long.;

(32) 44°41.68′ N. lat., 124°15.38′ W. long.;

(33) 44°34.87′ N. lat., 124°15.80′ W. long.;

(34) 44°33.74′ N. lat., 124°14.44′ W. long.;

(35) 44°27.66′ N. lat., 124°16.99′ W. long.;

(36) 44°19.13′ N. lat., 124°19.22′ W. long.;

(37) 44°15.35′ N. lat., 124°17.38′ W. long.;

(38) 44°14.38′ N. lat., 124°17.78′ W. long.;

(39) 44°12.80′ N. lat., 124°17.18′ W. long.;

(40) 44°09.23′ N. lat., 124°15.96′ W. long.;

(41) 44°08.38′ N. lat., 124°16.79′ W. long.;

(42) 44°08.30′ N. lat., 124°16.75′ W. long.;

(43) 44°01.18′ N. lat., 124°15.42′ W. long.;

(44) 43°51.61′ N. lat., 124°14.68′ W. long.;

(45) 43°42.66′ N. lat., 124°15.46′ W. long.;

(46) 43°40.49′ N. lat., 124°15.74′ W. long.;

(47) 43°38.77′ N. lat., 124°15.64′ W. long.;

(48) 43°34.52′ N. lat., 124°16.73′ W. long.;

(49) 43°28.82′ N. lat., 124°19.52′ W. long.;

(50) 43°23.91′ N. lat., 124°24.28′ W. long.;

(51) 43°20.83′ N. lat., 124°26.63′ W. long.;

(52) 43°17.96′ N. lat., 124°28.81′ W. long.;

(53) 43°16.75′ N. lat., 124°28.42′ W. long.;

(54) 43°13.97′ N. lat., 124°31.99′ W. long.;

(55) 43°13.72′ N. lat., 124°33.25′ W. long.;

(56) 43°12.26′ N. lat., 124°34.16′ W. long.;

(57) 43°10.96′ N. lat., 124°32.33′ W. long.;

(58) 43°05.65′ N. lat., 124°31.52′ W. long.;

(59) 42°59.66′ N. lat., 124°32.58′ W. long.;

(60) 42°54.97′ N. lat., 124°36.99′ W. long.;

(61) 42°53.81′ N. lat., 124°38.57′ W. long.;

(62) 42°50.00′ N. lat., 124°39.68′ W. long.;

(63) 42°49.13′ N. lat., 124°39.70′ W. long.;

(64) 42°46.47′ N. lat., 124°38.89′ W. long.;

(65) 42°45.74′ N. lat., 124°38.86′ W. long.;

(66) 42°44.79′ N. lat., 124°37.96′ W. long.;

(67) 42°45.01′ N. lat., 124°36.39′ W. long.;

(68) 42°44.14′ N. lat., 124°35.17′ W. long.;

(69) 42°42.14′ N. lat., 124°32.82′ W. long.;

(70) 42°40.50′ N. lat., 124°31.98′ W. long.;

C.6. Notification When Unsafe Conditions Prevent Compliance With Regulations

If prevented by unsafe weather conditions or mechanical problems from meeting special management area landing restrictions, vessels must notify the U.S. Coast Guard and receive acknowledgment of such notification prior to leaving the area. This notification shall include the name of the vessel, port where delivery will be made, approximate amount of salmon (by species) on board, the estimated time of arrival, and the specific reason the vessel is not able to meet special management area landing restrictions.

In addition to contacting the U.S. Coast Guard, vessels fishing south of the Oregon/California border must notify CDFW within one hour of leaving the management area by calling 800-889-8346 and providing the same information as reported to the U.S. Coast Guard. All salmon must be offloaded within 24 hours of reaching port.

C.7. Incidental Halibut Harvest

During authorized periods, the operator of a vessel that has been issued an incidental halibut harvest license by the International Pacific Halibut Commission may retain Pacific halibut caught incidentally in Area 2A while trolling for salmon. Halibut retained must be no less than 32 inches in total length, measured from the tip of the lower jaw with the mouth closed to the extreme end of the middle of the tail, and must be landed with the head on. When halibut are caught and landed incidental to commercial salmon fishing by an IPHC license holder, any person who is required to report the salmon landing by applicable state law must include on the state landing receipt for that landing both the number of halibut landed, and the total dressed, head-on weight of halibut landed, in pounds, as well as the number and species of salmon landed.

License applications for incidental harvest must be obtained from the IPHC (phone: 206-634-1838). Applicants must apply prior to mid-March 2017 for 2017 permits (exact date to be set by the IPHC in early 2017). Incidental harvest is authorized only during April, May, and June of the 2016 troll seasons and after June 30 in 2016 if quota remains and if announced on the NMFS hotline (phone: 800-662-9825 or 206-526-6667). WDFW, ODFW, and CDFW will monitor landings. If the landings are projected to exceed the IPHC's 34,123 pound preseason allocation or the total Area 2A non-Indian commercial halibut allocation, NMFS will take inseason action to prohibit retention of halibut in the non-Indian salmon troll fishery.

May 1, 2016, through December 31, 2016, and April 1-30, 2017, license holders may land or possess no more than one Pacific halibut per each three Chinook, except one Pacific halibut may be possessed or landed without meeting the ratio requirement, and no more than 20 halibut may be possessed or landed per trip. Pacific halibut retained must be no less than 32 inches in total length (with head on). IPHC license holders must comply with all applicable IPHC regulations.

Incidental Pacific halibut catch regulations in the commercial salmon troll fishery adopted for 2016, prior to any 2016 inseason action, will be in effect when incidental Pacific halibut retention opens on April 1, 2017 unless otherwise modified by inseason action at the March 2017 Council meeting.

a. “C-shaped” yelloweye rockfish conservation area is an area to be voluntarily avoided for salmon trolling. NMFS and the Council request salmon trollers voluntarily avoid this area in order to protect yelloweye rockfish. The area is defined in the Pacific Council Halibut Catch Sharing Plan in the North Coast subarea (Washington marine area 3), with the following coordinates in the order listed:

48°18′ N. lat.; 125°18′ W. long.;

48°18′ N. lat.; 124°59′ W. long.;

48°11′ N. lat.; 124°59′ W. long.;

48°11′ N. lat.; 125°11′ W. long.;

48°04′ N. lat.; 125°11′ W. long.;

48°04′ N. lat.; 124°59′ W. long.;

48°00′ N. lat.; 124°59′ W. long.;

48°00′ N. lat.; 125°18′ W. long.;

and connecting back to 48°18′ N. lat.; 125°18′ W. long.

C.8. Inseason Management

In addition to standard inseason actions or modifications already noted under the season description, the following inseason guidance applies:

a. Chinook remaining from the May through June non-Indian commercial troll harvest guideline north of Cape Falcon may be transferred to the July through September harvest guideline if the transfer would not result in exceeding preseason impact expectations on any stocks.

b. Chinook remaining from the June non-Indian commercial troll quotas in the Oregon KMZ may be transferred to the Chinook quota for the July open period if the transfer would not result in exceeding preseason impact expectations on any stocks.

c. NMFS may transfer fish between the recreational and commercial fisheries north of Cape Falcon if there is agreement among the areas' representatives on the Salmon Advisory Subpanel (SAS), and if the transfer would not result in exceeding preseason impact expectations on any stocks.

d. At the March 2017 meeting, the Council will consider inseason recommendations for special regulations for any experimental fisheries (proposals must meet Council protocol and be received in November 2016).

e. If retention of unmarked coho is permitted by inseason action, the allowable coho quota will be adjusted to ensure preseason projected impacts on all stocks is not exceeded.

f. Landing limits may be modified inseason to sustain season length and keep harvest within overall quotas.

C.9. State Waters Fisheries

Consistent with Council management objectives:

a. The State of Oregon may establish additional late-season fisheries in state waters.

b. The State of California may establish limited fisheries in selected state waters. Check state regulations for details.

C.10. For the purposes of California Fish and Game Code, Section 8232.5, the definition of the Klamath Management Zone (KMZ) for the ocean salmon season shall be that area from Humbug Mountain, Oregon, to Horse Mountain, California.

Section 2. Recreational Management Measures for 2016 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies special requirements, definitions, restrictions and exceptions.

A. Season Description

North of Cape Falcon, OR

—U.S./Canada Border to Cape Alava (Neah Bay Subarea)

July 1 through earlier of August 21 or a subarea guideline of 6,200 Chinook (C.6).

Seven days per week. All salmon except coho; no chum beginning August 1; two fish per day (C.1). Beginning August 1, Chinook non-retention east of the Bonilla-Tatoosh line (C.4.a) during Council managed ocean fishery. Chinook minimum size limit of 24 inches total length (B). See gear restrictions and definitions (C.2, C.3). Inseason management may be used to sustain season length and keep harvest within the overall Chinook and coho recreational TACs for north of Cape Falcon (C.5).

—Cape Alava to Queets River (La Push Subarea)

July 1 through earlier of August 21 or a subarea guideline of 2,000 Chinook (C.6).

Seven days per week. All salmon except coho; two fish per day. Chinook minimum size limit of 24 inches total length (B). See gear restrictions and definitions (C.2, C.3). Inseason management may be used to sustain season length and keep harvest within the overall Chinook and coho recreational TACs for north of Cape Falcon (C.5).

—Queets River to Leadbetter Point (Westport Subarea)

July 1 through earlier of August 21 or a subarea guideline of 16,600 Chinook (C.6).

Seven days per week. All salmon except coho; one fish per day (C.1). Chinook minimum size limit of 24 inches total length (B). See gear restrictions and definitions (C.2, C.3). Grays Harbor Control Zone closed beginning August 8 (C.4.b). Inseason management may be used to sustain season length and keep harvest within the overall Chinook and coho recreational TACs for north of Cape Falcon (C.5).

—Leadbetter Point to Cape Falcon (Columbia River Subarea)

July 1 through earlier of August 31 or 18,900 marked coho subarea quota with a subarea guideline of 10,200 Chinook (C.6).

Seven days per week. All salmon; two fish per day, no more than one of which can be a Chinook (C.1). Chinook minimum size limit of 24 inches total length (B). See gear restrictions and definitions (C.2, C.3). Columbia Control Zone closed (C.4.c). Inseason management may be used to sustain season length and keep harvest within the overall Chinook and coho recreational TACs for north of Cape Falcon (C.5).

South of Cape Falcon, OR

—Cape Falcon to Humbug Mt.

March 15 through October 31 (C.6), except as provided below during the all-salmon mark-selective and September non-mark-selective coho fisheries.

Seven days per week. All salmon except coho; two fish per day (C.1). Chinook minimum size limit of 24 inches total length (B). See gear restrictions and definitions (C.2, C.3).

• Non-mark-selective coho fishery: September 3 through the earlier of September 30 or a landed catch of 7,500 coho (C.5).

Seven days per week. All salmon, two fish per day (C.1). See minimum size limits (B) and gear restrictions and definitions (C.2, C.3).

The all salmon except coho season reopens the earlier of October 1 or attainment of the coho quota (C.5).

In 2017, the season between Cape Falcon and Humbug Mountain will open March 15 for all salmon except coho; two fish per day (C.1). Chinook minimum size limit of 24 inches total length (B); and the same gear restrictions as in 2016 (C.2, C.3).

Fishing in the Stonewall Bank yelloweye rockfish conservation area restricted to trolling only on days the all depth recreational halibut fishery is open (call the halibut fishing hotline 1-800-662-9825 for specific dates) (C.3.b, C.4.d).

—Cape Falcon to Oregon/California Border

All-salmon mark-selective coho fishery: June 25 through the earlier of August 7 or a landed catch of 26,000 marked coho (C.5).

Seven days per week. All salmon, two fish per day. All retained coho must be marked with a healed adipose fin clip (C.1). Chinook minimum size limit of 24 inches total length (B). See gear restrictions and definitions (C.2, C.3). The all salmon except coho season reopens the earlier of August 8 or attainment of the coho quota.

Fishing in the Stonewall Bank Yelloweye Rockfish Conservation Area restricted to trolling only on days the all depth recreational halibut fishery is open (call the halibut fishing hotline 1-800-662-9825 for specific dates) (C.3.b, C.4.d).

—Humbug Mt. to Oregon/California Border (Oregon KMZ)

May 28 through August 7 and September 3 through September 5; except as provided above during the all-salmon mark-selective coho fishery (C.6).

Seven days per week. All salmon except coho, except as noted above in the all-salmon mark-selective coho fishery; two fish per day (C.1). Chinook minimum size limit of 24 inches total length (B). See gear restrictions and definitions (C.2, C.3).

—Oregon/California Border to Horse Mountain (California KMZ)

May 16 through May 31, June 16 through June 30, July 16 through August 16, and September 1 through September 5 (C.6).

Seven days per week. All salmon except coho; two fish per day (C.1). Chinook minimum size limit of 20 inches total length (B). See gear restrictions and definitions (C.2, C.3). Klamath Control Zone closed in August (C.4.e). See California State regulations for additional closures adjacent to the Smith, Eel, and Klamath Rivers.

—Horse Mountain to Point Arena (Fort Bragg)

April 2 through November 13 (C.6).

Seven days per week. All salmon except coho; two fish per day (C.1). Chinook minimum size limit of 20 inches total length (B). See gear restrictions and definitions (C.2, C.3).

In 2017, season opens April 1 for all salmon except coho; two fish per day (C.1). Chinook minimum size limit of 20 inches total length (B); and the same gear restrictions as in 2016 (C.2, C.3).

—Point Arena to Pigeon Point (San Francisco)

April 2 through October 31 (C.6).

Seven days per week. All salmon except coho; two fish per day (C.1). Chinook minimum size limit of 24 inches total length through April 30, 20 inches thereafter (B). See gear restrictions and definitions (C.2, C.3).

In 2017, season opens April 1 for all salmon except coho; two fish per day (C.1). Chinook minimum size limit of 24 inches total length (B); and the same gear restrictions as in 2016 (C.2, C.3).

—Pigeon Point to Point Sur (Monterey North)

April 2 through July 15 (C.6).

Seven days per week. All salmon except coho; two fish per day (C.1). Chinook minimum size limit of 24 inches total length (B). See gear restrictions and definitions (C.2, C.3).

In 2017, season opens April 1 for all salmon except coho; two fish per day (C.1). Chinook minimum size limit of 24 inches total length (B); and the same gear restrictions as in 2016 (C.2, C.3).

—Point Sur to U.S./Mexico Border (Monterey South)

April 2 through May 31 (C.6).

Seven days per week. All salmon except coho; two fish per day (C.1). Chinook minimum size limit of 24 inches total length (B). See gear restrictions and definitions (C.2, C.3).

In 2017, season opens April 1 for all salmon except coho; two fish per day (C.1). Chinook minimum size limit of 24 inches total length (B); and the same gear restrictions as in 2016 (C.2, C.3).

California State regulations require all salmon be made available to a CDFW representative for sampling immediately at port of landing. Any person in possession of a salmon with a missing adipose fin, upon request by an authorized agent or employee of the CDFW, shall immediately relinquish the head of the salmon to the state (California Code of Regulations Title 14 Section 1.73).

B. Minimum Size (Total Length in Inches) (See C.1)

Area (when open) | Chinook | Coho | Pink
North of Cape Falcon | 24.0 | 16.0 | None.
Cape Falcon to Humbug Mountain | 24.0 | 16.0 | None.
Humbug Mt. to OR/CA border | 24.0 | 16.0 | None.
OR/CA border to Horse Mountain | 20.0 |  | 20.0.
Horse Mountain to Point Arena | 20.0 |  | 20.0.
Point Arena to Pigeon Point
Through April 30 | 24.0 |  | 24.0.
After April 30 | 20.0 |  | 20.0.
Pigeon Point to U.S./Mexico border | 24.0 |  | 24.0.
Metric equivalents: 24.0 in = 61.0 cm, 20.0 in = 50.8 cm, and 16.0 in = 40.6 cm.

C. Requirements, Definitions, Restrictions, or Exceptions

C.1. Compliance With Minimum Size and Other Special Restrictions

All salmon on board a vessel must meet the minimum size or other special requirements for the area being fished and the area in which they are landed if that area is open. Salmon may be landed in an area that is closed only if they meet the minimum size or other special requirements for the area in which they were caught. Salmon may not be filleted prior to landing.

Ocean Boat Limits: Off the coast of Washington, Oregon, and California, each fisher aboard a vessel may continue to use angling gear until the combined daily limits of Chinook and coho salmon for all licensed and juvenile anglers aboard have been attained (additional state restrictions may apply).

C.2. Gear Restrictions

Salmon may be taken only by hook and line using barbless hooks. All persons fishing for salmon, and all persons fishing from a boat with salmon on board, must meet the gear restrictions listed below for specific areas or seasons.

a. U.S./Canada border to Point Conception, California: No more than one rod may be used per angler; and no more than two single point, single shank barbless hooks are required for all fishing gear. [Note: ODFW regulations in the state-water fishery off Tillamook Bay may allow the use of barbed hooks to be consistent with inside regulations.]

b. Horse Mountain, California, to Point Conception, California: Single point, single shank, barbless circle hooks (see gear definitions below) are required when fishing with bait by any means other than trolling, and no more than two such hooks shall be used. When angling with two hooks, the distance between the hooks must not exceed five inches when measured from the top of the eye of the top hook to the inner base of the curve of the lower hook, and both hooks must be permanently tied in place (hard tied). Circle hooks are not required when artificial lures are used without bait.

C.3. Gear Definitions

a. Recreational fishing gear defined: Off Oregon and Washington, angling tackle consists of a single line that must be attached to a rod and reel held by hand or closely attended; the rod and reel must be held by hand while playing a hooked fish. No person may use more than one rod and line while fishing off Oregon or Washington. Off California, the line must be attached to a rod and reel held by hand or closely attended; weights directly attached to a line may not exceed four pounds (1.8 kg). While fishing off California north of Point Conception, no person fishing for salmon, and no person fishing from a boat with salmon on board, may use more than one rod and line. Fishing includes any activity which can reasonably be expected to result in the catching, taking, or harvesting of fish.

b. Trolling defined: Angling from a boat or floating device that is making way by means of a source of power, other than drifting by means of the prevailing water current or weather conditions.

c. Circle hook defined: A hook with a generally circular shape and a point which turns inward, pointing directly to the shank at a 90° angle.

C.4. Control Zone Definitions

a. The Bonilla-Tatoosh Line: A line running from the western end of Cape Flattery to Tatoosh Island Lighthouse (48°23′30″ N. lat., 124°44′12″ W. long.) to the buoy adjacent to Duntze Rock (48°24′37″ N. lat., 124°44′37″ W. long.), then in a straight line to Bonilla Point (48°35′39″ N. lat., 124°42′58″ W. long.) on Vancouver Island, British Columbia.

b. Grays Harbor Control Zone—The area defined by a line drawn from the Westport Lighthouse (46°53′18″ N. lat., 124° 07′01″ W. long.) to Buoy #2 (46°52′42″ N. lat., 124°12′42″ W. long.) to Buoy #3 (46°55′00″ N. lat., 124°14′48″ W. long.) to the Grays Harbor north jetty (46°55′36″ N. lat., 124°10′51″ W. long.).

c. Columbia Control Zone: An area at the Columbia River mouth, bounded on the west by a line running northeast/southwest between the red lighted Buoy #4 (46°13′35″ N. lat., 124°06′50″ W. long.) and the green lighted Buoy #7 (46°15′09′ N. lat., 124°06′16″ W. long.); on the east, by the Buoy #10 line which bears north/south at 357° true from the south jetty at 46°14′00″ N. lat., 124°03′07″ W. long. to its intersection with the north jetty; on the north, by a line running northeast/southwest between the green lighted Buoy #7 to the tip of the north jetty (46°15′48″ N. lat., 124°05′20″ W. long. and then along the north jetty to the point of intersection with the Buoy #10 line; and on the south, by a line running northeast/southwest between the red lighted Buoy #4 and tip of the south jetty (46°14′03″ N. lat., 124°04′05″ W. long.), and then along the south jetty to the point of intersection with the Buoy #10 line.

d. Stonewall Bank Yelloweye Rockfish Conservation Area: The area defined by the following coordinates in the order listed:

44°37.46′ N. lat.; 124°24.92′ W. long.

44°37.46′ N. lat.; 124°23.63′ W. long.

44°28.71′ N. lat.; 124°21.80′ W. long.

44°28.71′ N. lat.; 124°24.10′ W. long.

44°31.42′ N. lat.; 124°25.47′ W. long.

and connecting back to 44°37.46′ N. lat.; 124°24.92′ W. long.

e. Klamath Control Zone: The ocean area at the Klamath River mouth bounded on the north by 41°38′48″ N. lat. (approximately 6 nautical miles north of the Klamath River mouth); on the west by 124°23′00″ W. long. (approximately 12 nautical miles off shore); and, on the south by 41°26′48″ N. lat. (approximately 6 nautical miles south of the Klamath River mouth).

C.5. Inseason Management

Regulatory modifications may become necessary inseason to meet preseason management objectives such as quotas, harvest guidelines, and season duration. In addition to standard inseason actions or modifications already noted under the season description, the following inseason guidance applies:

a. Actions could include modifications to bag limits, or days open to fishing, and extensions or reductions in areas open to fishing.

b. Coho may be transferred inseason among recreational subareas north of Cape Falcon to help meet the recreational season duration objectives (for each subarea) after conferring with representatives of the affected ports and the Council's SAS recreational representatives north of Cape Falcon, and if the transfer would not result in exceeding preseason impact expectations on any stocks.

c. Chinook and coho may be transferred between the recreational and commercial fisheries north of Cape Falcon if there is agreement among the representatives of the SAS, and if the transfer would not result in exceeding preseason impact expectations on any stocks.

d. Fishery managers may consider inseason action modifying regulations restricting retention of unmarked coho. To remain consistent with preseason expectations, any inseason action shall consider, if significant, the difference between observed and preseason forecasted mark rates. Such a consideration may also include a change in bag limit of two salmon, no more than one of which may be a coho.

C.6. Additional Seasons in State Territorial Waters

Consistent with Council management objectives, the States of Washington, Oregon, and California may establish limited seasons in state waters. Check state regulations for details.

Section 3. Treaty Indian Management Measures for 2016 Ocean Salmon Fisheries

Parts A, B, and C of this section contain requirements that must be followed for lawful participation in the fishery.

A. Season Descriptions

May 1 through the earlier of June 30 or 20,000 Chinook quota.

All salmon except coho. If the Chinook quota is exceeded, the excess will be deducted from the later all-salmon season (C.5). See size limit (B) and other restrictions (C).

July 1 through the earlier of August 31, or 20,000 preseason Chinook quota (C.5). All salmon except coho. See size limit (B) and other restrictions (C).

B. Minimum Size (Inches)

Area (when open) | Chinook: Total | Chinook: Head-off | Coho: Total | Coho: Head-off | Pink
North of Cape Falcon | 24.0 | 18.0 |  |  | None.
Metric equivalents: 24.0 in = 61.0 cm, 18.0 in = 45.7 cm.

C. Requirements, Restrictions, and Exceptions

C.1. Tribe and Area Boundaries

All boundaries may be changed to include such other areas as may hereafter be authorized by a Federal court for that tribe's treaty fishery.

S'KLALLAM—Washington State Statistical Area 4B (All).

MAKAH—Washington State Statistical Area 4B and that portion of the FMA north of 48°02′15″ N. lat. (Norwegian Memorial) and east of 125°44′00″ W. long.

QUILEUTE—That portion of the FMA between 48°10′00″ N. lat. (Cape Alava.) and 47°3′70″ N. lat. (Queets River) and east of 125°44′00″ W. long.

HOH—That portion of the FMA between 47°54′18″ N. lat. (Quillayute River) and 47°21′00″ N. lat. (Quinault River) and east of 125°44′00″ W. long.

QUINAULT—That portion of the FMA between 47°40′06″ N. lat. (Destruction Island) and 46°53′18″ N. lat. (Point Chehalis) and east of 125°08′30″ W. long.

C.2. Gear Restrictions

a. Single point, single shank, barbless hooks are required in all fisheries.

b. No more than eight fixed lines per boat.

c. No more than four hand held lines per person in the Makah area fishery (Washington State Statistical Area 4B and that portion of the FMA north of 48°02′15″ N. lat. (Norwegian Memorial) and east of 125°44′00″ W. long.).

C.3. Quotas

a. The quotas include troll catches by the S'Klallam and Makah tribes in Washington State Statistical Area 4B from May 1 through August 31.

b. The Quileute Tribe will continue a ceremonial and subsistence fishery during the time frame of October 1 through October 15 in the same manner as in 2004-2015. Fish taken during this fishery are to be counted against treaty troll quotas established for the 2016 season (estimated harvest during the October ceremonial and subsistence fishery: 20 Chinook; 0 coho).

C.4. Area Closures

a. The area within a six nautical mile radius of the mouths of the Queets River (47°31′42″ N. lat.) and the Hoh River (47°45′12″ N. lat.) will be closed to commercial fishing.

b. A closure within two nautical miles of the mouth of the Quinault River (47°21′00″ N. lat.) may be enacted by the Quinault Nation and/or the State of Washington and will not adversely affect the Secretary of Commerce's management regime.

C.5. Inseason Management

In addition to standard inseason actions or modifications already noted under the season description, the following inseason guidance applies:

a. Chinook remaining from the May through June treaty—Indian ocean troll harvest guideline north of Cape Falcon may be transferred to the July through August harvest guideline on a fishery impact equivalent basis.

Section 4. Halibut Retention

Under the authority of the Northern Pacific Halibut Act, NMFS promulgated regulations governing the Pacific halibut fishery, which appear at 50 CFR part 300, subpart E. On April 1, 2016, NMFS published a final rule (81 FR 18789) to implement the IPHC's recommendations, to announce fishery regulations for U.S. waters off Alaska and fishery regulations for treaty commercial and ceremonial and subsistence fisheries, some regulations for non-treaty commercial fisheries for U.S. waters off the West Coast, and approval of and implementation of the Area 2A Pacific halibut Catch Sharing Plan and the Area 2A management measures for 2016. The regulations and management measures provide that vessels participating in the salmon troll fishery in Area 2A (all waters off the States of Washington, Oregon, and California), which have obtained the appropriate IPHC license, may retain halibut caught incidentally during authorized periods in conformance with provisions published with the annual salmon management measures. A salmon troller may participate in the halibut incidental catch fishery during the salmon troll season or in the directed commercial fishery targeting halibut, but not both.

The following measures have been approved by the IPHC, and implemented by NMFS. During authorized periods, the operator of a vessel that has been issued an incidental halibut harvest license may retain Pacific halibut caught incidentally in Area 2A while trolling for salmon. Halibut retained must be no less than 32 inches (81.28 cm) in total length, measured from the tip of the lower jaw with the mouth closed to the extreme end of the middle of the tail, and must be landed with the head on.

License applications for incidental harvest must be obtained from the International Pacific Halibut Commission (IPHC) (phone: 206-634-1838). Applicants must apply prior to mid-March 2017 for 2017 permits (exact date to be set by the IPHC in early 2017). Incidental harvest is authorized only during April, May, and June of the 2016 troll seasons and after June 30 in 2016 if quota remains and if announced on the NMFS hotline (phone: 1-800-662-9825 or 206-526-6667). WDFW, ODFW, and CDFW will monitor landings. If the landings are projected to exceed the 34,123 pound preseason allocation or the total Area 2A non-Indian commercial halibut allocation, NMFS will take inseason action to prohibit retention of halibut in the non-Indian salmon troll fishery.

May 1, 2016, through December 31, 2016, and April 1-30, 2017, license holders may land or possess no more than one Pacific halibut per each three Chinook, except one Pacific halibut may be possessed or landed without meeting the ratio requirement, and no more than 20 halibut may be possessed or landed per trip. Pacific halibut retained must be no less than 32 inches in total length (with head on). IPHC license holders must comply with all applicable IPHC regulations.

Incidental Pacific halibut catch regulations in the commercial salmon troll fishery adopted for 2016, prior to any 2016 inseason action, will be in effect when incidental Pacific halibut retention opens on April 1, 2017, unless otherwise modified by inseason action at the March 2017 Council meeting.

NMFS and the Council request that salmon trollers voluntarily avoid a “C-shaped” YRCA (also known as the Salmon Troll YRCA) in order to protect yelloweye rockfish. Coordinates for the Salmon Troll YRCA are defined at 50 CFR 660.70(a) in the North Coast subarea (Washington marine area 3). See Section 1.C.7. in this document for the coordinates.

Section 5. Geographical Landmarks

Wherever the words “nautical miles off shore” are used in this document, the distance is measured from the baseline from which the territorial sea is measured.

Geographical landmarks referenced in this document are at the following locations:

Cape Flattery, WA | 48°23′00″ N. lat.
Cape Alava, WA | 48°10′00″ N. lat.
Queets River, WA | 47°31′42″ N. lat.
Leadbetter Point, WA | 46°38′10″ N. lat.
Cape Falcon, OR | 45°46′00″ N. lat.
Florence South Jetty, OR | 44°00′54″ N. lat.
Humbug Mountain, OR | 42°40′30″ N. lat.
Oregon-California border | 42°00′00″ N. lat.
Humboldt South Jetty, CA | 40°45′53″ N. lat.
Horse Mountain, CA | 40°05′00″ N. lat.
Point Arena, CA | 38°57′30″ N. lat.
Point Reyes, CA | 37°59′44″ N. lat.
Point San Pedro, CA | 37°35′40″ N. lat.
Pigeon Point, CA | 37°11′00″ N. lat.
Point Sur, CA | 36°18′00″ N. lat.
Point Conception, CA | 34°27′00″ N. lat.

Section 6. Inseason Notice Procedures

Notice of inseason management actions will be provided by a telephone hotline administered by the West Coast Region, NMFS, 1-800-662-9825 or 206-526-6667, and by USCG Notice to Mariners broadcasts. These broadcasts are announced on Channel 16 VHF-FM and 2182 KHz at frequent intervals. The announcements designate the channel or frequency over which the Notice to Mariners will be immediately broadcast. Inseason actions will also be published in the Federal Register as soon as practicable. Since provisions of these management measures may be altered by inseason actions, fishermen should monitor either the telephone hotline or Coast Guard broadcasts for current information for the area in which they are fishing.

Classification

This final rule is necessary for conservation and management of Pacific coast salmon stocks and is consistent with the Magnuson-Stevens Act and other applicable law. These regulations are being promulgated under the authority of 16 U.S.C. 1855(d) and 16 U.S.C. 773(c).

This final rule is not significant under Executive Order 12866.

The Assistant Administrator for Fisheries finds good cause under 5 U.S.C. 553(b)(B), to waive the requirement for prior notice and opportunity for public comment, as such procedures are impracticable and contrary to the public interest.

The annual salmon management cycle begins May 1 and continues through April 30 of the following year. May 1 was chosen because the pre-May harvests constitute a relatively small portion of the annual catch. The time frame of the preseason process for determining the annual modifications to ocean salmon fishery management measures depends on when the pertinent biological data are available. Salmon stocks are managed to meet annual spawning escapement goals or specific exploitation rates. Achieving either of these objectives requires designing management measures that are appropriate for the ocean abundance predicted for that year. These pre-season abundance forecasts, which are derived from previous years' observed spawning escapement, vary substantially from year to year, and are not available until January or February because spawning escapement continues through the fall.

The preseason planning and public review process associated with developing Council recommendations is initiated in February as soon as the forecast information becomes available. The public planning process requires coordination of management actions of four states, numerous Indian tribes, and the Federal Government, all of which have management authority over the stocks. This complex process includes the affected user groups, as well as the general public. The process is compressed into a two-month period culminating with the April Council meeting at which the Council adopts a recommendation that is forwarded to NMFS for review, approval, and implementation of fishing regulations effective on May 1.

Providing opportunity for prior notice and public comments on the Council's recommended measures through a proposed and final rulemaking process would require 30 to 60 days in addition to the two-month period required for development of the regulations. Delaying implementation of annual fishing regulations, which are based on the current stock abundance projections, for an additional 60 days would require that fishing regulations for May and June be set in the previous year, without the benefit of information regarding current stock status. For the 2016 fishing regulations, the current stock status was not available to the Council until February. Because a substantial amount of fishing occurs during May and June, managing the fishery with measures developed using the prior year's data could have significant adverse effects on the managed stocks, including ESA-listed stocks. Although salmon fisheries that open prior to May are managed under the prior year's measures, as modified by the Council at its March meeting, relatively little harvest occurs during that period (e.g., on average, less than 5 percent of commercial and recreational harvest occurred prior to May 1 during the years 2001 through 2015). Allowing the much more substantial harvest levels normally associated with the May and June salmon seasons to be promulgated under the prior year's regulations would impair NMFS' ability to protect weak and ESA-listed salmon stocks, and to provide harvest opportunity where appropriate. The choice of May 1 as the beginning of the regulatory season balances the need to gather and analyze the data needed to meet the management objectives of the Salmon FMP and the need to manage the fishery using the best available scientific information.

If these measures are not in place on May 1, salmon fisheries will not open as scheduled. This would result in lost fishing opportunity, negative economic impacts, and confusion for the public as the state fisheries adopt concurrent regulations that conform to the Federal management measures.

Overall, the annual population dynamics of the various salmon stocks require managers to adjust the season structure of the West Coast salmon fisheries to both protect weaker stocks and give fishers access to stronger salmon stocks, particularly hatchery produced fish. Failure to implement these measures immediately could compromise the status of certain stocks, or result in foregone opportunity to harvest stocks whose abundance has increased relative to the previous year thereby undermining the purpose of this agency action.

In addition, public comment is received and considered by the Council and NMFS throughout the process of developing these management measures. As described above, the Council takes comment at its March and April meetings, and hears summaries of comments received at public meetings held between the March and April meetings in each of the coastal states. NMFS also invited comments in a notice published prior to the March Council meeting, and considered comments received by the Council through its representative on the Council. Thus, these measures were developed with significant public input.

Based upon the above-described need to have these measures effective on May 1 and the fact that there is limited time available to implement these new measures after the final Council meeting in April and before the commencement of the ocean salmon fishing year on May 1, NMFS has concluded it is impracticable and contrary to the public interest to provide an opportunity for prior notice and public comment under 5 U.S.C. 553(b)(B).

The Assistant Administrator for Fisheries also finds that good cause exists under 5 U.S.C. 553(d)(3), to waive the 30-day delay in effectiveness of this final rule. As previously discussed, data are not available until February and management measures are not finalized until mid-April. These measures are essential to conserve threatened and endangered ocean salmon stocks, and to provide for harvest of more abundant stocks. Delaying the effectiveness of these measures by 30 days could compromise the ability of some stocks to attain their conservation objectives, preclude harvest opportunity, and negatively impact anticipated international, state, and tribal salmon fisheries, thereby undermining the purposes of this agency action and the requirements of the Magnuson-Stevens Act.

To enhance the fishing industry's notification of these new measures, and to minimize the burden on the regulated community required to comply with the new regulations, NMFS is announcing the new measures over the telephone hotline used for inseason management actions and is posting the regulations on its West Coast Region Web site (http://www.westcoast.fisheries.noaa.gov). NMFS is also advising the states of Washington, Oregon, and California on the new management measures. These states announce the seasons for applicable state and Federal fisheries through their own public notification systems.

Because prior notice and an opportunity for public comment are not required to be provided for these portions of this rule by 5 U.S.C. 553, or any other law, the analytical requirements of the Regulatory Flexibility Act, 5 U.S.C. 601 et seq., are not applicable. Accordingly, no Regulatory Flexibility Analysis is required for this portion of the rule and none has been prepared.

This action contains collection-of-information requirements subject to the Paperwork Reduction Act (PRA), and which have been approved by the Office of Management and Budget (OMB) under control number 0648-0433. The public reporting burden for providing notifications if landing area restrictions cannot be met is estimated to average 15 minutes per response. This estimate includes the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB control number.

NMFS has current ESA biological opinions that cover fishing under these regulations on all listed salmon species. NMFS reiterated their consultation standards for all ESA listed salmon and steelhead species in their annual Guidance letter to the Council dated March 7, 2016. Some of NMFS past biological opinions have found no jeopardy, and others have found jeopardy, but provided reasonable and prudent alternatives to avoid jeopardy. The management measures for 2016 are consistent with the biological opinions that found no jeopardy, and with the reasonable and prudent alternatives in the jeopardy biological opinions. The Council's recommended management measures therefore comply with NMFS' consultation standards and guidance for all listed salmon species which may be affected by Council fisheries. In some cases, the recommended measures are more restrictive than NMFS' ESA requirements.

In 2009, NMFS consulted on the effects of fishing under the Salmon FMP on the endangered Southern Resident Killer Whale Distinct Population Segment (SRKW) and concluded the salmon fisheries were not likely to jeopardize SRKW. The 2016 salmon management measures are consistent with the terms of that biological opinion.

This final rule was developed after meaningful and collaboration with the affected tribes. The tribal representative on the Council made the motion for the regulations that apply to the tribal fisheries.

Authority: 16 U.S.C. 773-773k; 1801 et seq.

Dated: April 27, 2016.
Samuel D. Rauch III,
Deputy Assistant Administrator for Regulatory Programs, National Marine Fisheries Service.

[FR Doc. 2016-10250 Filed 4-28-16; 4:15 pm]

BILLING CODE 3510-22-P